DEPARTMENT OF DEFENSE

Department of the Navy

Meeting of the Naval Research Advisory Committee

AGENCY: Department of the Navy, DoD.

ACTION: Notice of closed meetings.

SUMMARY: The Naval Research Advisory Committee (NRAC) Panel on Venture Capital Technology met to identify emerging standards and technologies in the technology sector that the Department of the Navy should incorporate in its technology roadmap for providing state-of-the-art capabilities to the Fleet/Force.

DATES: The meetings were held on Wednesday, March 17, and Thursday, March 18, 2004, from 8 a.m. to 5 p.m.

ADDRESSES: The meetings were held at the Space and Naval Warfare Systems Center San Diego, 53560 Hull Street, San Diego, CA.

FOR FURTHER INFORMATION CONTACT: Dennis Ryan, Program Director, Naval Research Advisory Committee, 800 North Quincy Street, Arlington, VA 22217-5660, (703) 696-6769.

SUPPLEMENTARY INFORMATION: This notice is provided in accordance with the provisions of the Federal Advisory Committee Act (5 U.S.C. App. 2). All sessions of the meetings contained proprietary information and classified information that is specifically authorized under criteria established by Executive Order to be kept secret in the interest of national defense and are in fact properly classified pursuant to such Executive Order. The proprietary, classified and non-classified matters to be discussed were so inextricably intertwined as to preclude opening any portion of the meetings. In accordance with 5 U.S.C. App. 2, section 10(d), the Secretary of the Navy determined in writing that all sessions of the meetings must be closed to the public because they were concerned with matters listed in 5 U.S.C. section 552b(c)(1) and (4).

Due to an unavoidable delay in administrative processing, the 15 days advance notice could not be provided.

Dated: March 17, 2004.
S.K. Melancon,
Paralegal Specialist, Office of the Judge Advocate General, Alternate Federal Register Liaison Officer.

[FR Doc. 04-6525 Filed 3-22-04; 8:45 am]

BILLING CODE 3810-FF-P